DEPARTMENT OF COMMERCE

International Trade Administration

[A-122-838 and C-122-839]

Correction to Amendment to Preliminary Determination of Sales at Less Than Fair Value: Certain Softwood Lumber Products From Canada; Amendment to Preliminary Affirmative Countervailing Duty Determination, Preliminary Affirmative Critical Circumstances Determination, and Alignment of Final Countervailing Duty Determination With Final Antidumping Determination: Certain Softwood Lumber Products From Canada

AGENCY: Import Administration, International Trade Administration, Department of Commerce.

ACTION: Notice of correction to amendment to preliminary determination of sales at less than fair value and amendment to preliminary affirmative countervailing duty determination, preliminary affirmative critical circumstances determination, and alignment of final countervailing duty determination with final antidumping determination.

SUMMARY: The Department of Commerce is issuing a correction to its notice of amendment to preliminary determination in the antidumping duty (AD) investigation and preliminary determination in the countervailing duty (CVD) investigation of certain softwood lumber products from Canada to correct the effective date of the amendment.

EFFECTIVE DATES: May 19, 2001.

FOR FURTHER INFORMATION CONTACT: Charles Riggle at 202-482-0650 or Maria MacKay at 202-482-1775, Office of AD/CVD Enforcement V, and AD/CVD Enforcement VI, respectively, Group II, Import Administration, International Trade Administration, U.S. Department of Commerce, 14th Street and Constitution Ave, NW., Washington, DC 20230.

SUPPLEMENTARY INFORMATION:

Applicable Statute and Regulations

Unless otherwise indicated, all citations to the statute are references to the provisions effective January 1, 1995, the effective date of the amendments made to the Tariff Act of 1930 (the Act) by the Uruguay Round Agreements Act. In addition, unless otherwise indicated, all citations to the Department's regulations are to the regulations codified at 19 CFR part 351 (2000).

Correction

On February 11, 2002, the Department of Commerce (“the Department”) published in the Federal Register an amendment to preliminary determination of sales at less than fair value and amendment to preliminary affirmative countervailing duty determination in certain softwood lumber from Canada (67 FR 6230). The effective date of the amendment was inadvertantly written as February 11, 2002, instead of May 19, 2001, which is the effective date of suspension of liquidation pursuant to the preliminary affirmative countervailing duty determination. See Notice of Preliminary Affirmative Countervailing Duty Determination, Preliminary Affirmative Critical Circumstances Determination, and Alignment of Final Determination With Final Antidumping Duty Determination: Certain Softwood Lumber Products From Canada, 66 FR 43186, 43215. Therefore, we are correcting the effective date for the amendment to be May 19, 2001.

This notice is issued and published pursuant to section 777(i)(1) of the Act.

Dated: February 15, 2002.
Faryar Shirzad,
Assistant Secretary for Import Administration.

[FR Doc. 02-4269 Filed 2-21-02; 8:45 am]

BILLING CODE 3510-DS-P